DEPARTMENT OF COMMERCE

National Oceanic and Atmospheric Administration

50 CFR Part 635

[I.D. 010903D]

Atlantic Highly Migratory Species (HMS); Issues and Options paper for Amendment 1 to the Fishery Management Plan for Atlantic Tunas, Swordfish and Sharks (HMS FMP); Shark Management Measures

AGENCY: National Marine Fisheries Service (NMFS), National Oceanic and Atmospheric Administration (NOAA), Commerce.

ACTION: Notice of availability (NOA) of an issues and options paper; notice of public scoping meetings; request for comments.

SUMMARY: NMFS announces the availability of a paper on issues and options for Amendment 1 to the Fishery Management Plan for Atlantic Tunas, Swordfish and Sharks. The issues-and-options paper examines management options to rebuild or prevent overfishing of Atlantic sharks, consistent with the large coastal sharks (LCS) and the small coastal sharks (SCS) stock assessments, the Magnuson-Stevens Fishery Conservation and Management Act(Magnuson-Stevens Act), and other relevant Federal laws. NMFS is requesting comments on a wide range of commercial and recreational management measures including, but not limited to, quotas, minimum sizes, and prohibited species.

DATES: Comments on this action must be received no later than 5 p.m., local time, March 17, 2003.

The public scoping meetings will be held in February and March. For specific dates and times, see SUPPLEMENTARY INFORMATION.

ADDRESSES: Written comments on this action should be mailed to Christopher Rogers, Chief, NMFS Highly Migratory Species Management Division, 1315 East-West Highway, Silver Spring, MD 20910; or faxed to (301) 713-1917. Comments will not be accepted if submitted via email or Internet. Copies of the issues and options paper can be obtained from the HMS website at: http://www.nmfs.noaa.gov/sfa/hmspg.html, or by contacting Karyl Brewster-Geisz at (301) 713-2347.

The public scoping meetings will be held in Silver Spring, MD; Montauk, NY; Ocean City MD; Manteo, NC; Cocoa Beach, FL; Madeira Beach, FL; and Port Aransas, TX. For specific locations, see SUPPLEMENTARY INFORMATION.

FOR FURTHER INFORMATION CONTACT: Karyl Brewster-Geisz at (301) 713-2347.

SUPPLEMENTARY INFORMATION: The Atlantic shark fisheries are managed under the authority of the Magnuson-Stevens Act. The Fishery Management Plan for Atlantic Tunas, Swordfish, and Sharks is implemented by regulations at 50 CFR part 635.

Background

On November 15, 2002, NMFS published a notice of intent to prepare an EIS (67 FR 69180). In this notice, NMFS also announced its intent to amend the HMS FMP. Based on the 2002 stock assessments, NMFS believes the implementation of new management measures via an amendment to the HMS FMP is necessary to rebuild or prevent overfishing of Atlantic sharks. NMFS anticipates completing this amendment and any related documents by January 1, 2004.

Large Coastal Sharks

The LCS complex is composed of several species including, but not limited to, sandbar, blacktip, spinner, bull, and tiger sharks. Since the 1993 Shark Fishery Management Plan, LCS have been considered overfished. The latest stock assessment of LCS in the U.S. Atlantic and Gulf of Mexico, available in October 2002 (67 FR 64098), provides an update on the status of LCS stocks and projects their future abundance under a variety of catch levels in waters off the U.S. Atlantic and Gulf of Mexico coasts. The 2002 assessment includes catch estimates, new biological data, and a number of fishery-independent catch rate series, as well as extended fishery-dependent catch rate series.

The results for the LCS complex indicate that overfishing could still be occurring and the resource may be overfished. However, for sandbar sharks, the stock assessment indicates that, while overfishing is occurring, the current biomass is near, or somewhat above, maximum sustainable yield (MSY). Additionally, the stock assessment indicates that no reduction in catch for blacktip sharks is needed to maintain the stock at current levels and that some increase may be sustainable in the long term. Under the term of a court-approved settlement agreement, this stock assessment was independently peer reviewed. The peer review process was completed on December 20, 2003. The peer reviews were generally positive.

Copies of the LCS stock assessment and peer review are available for review (see ADDRESSES).

Management Options

Small Coastal Sharks

The SCS complex comprises four species including Atlantic sharpnose, blacknose, bonnethead, and finetooth. The 1992 stock assessment classified SCS as being fully utilized. The 2002 stock assessment of SCS in the U.S. and Gulf of Mexico indicates that the current level of removals is sustainable for the SCS aggregate. Aggregate biomass levels for the SCS aggregate are estimated at or above those which could produce MSY, and are not considered to be overfished. However, recent fishing mortality of finetooth sharks exceeds the fishing mortality at MSY, indicating overfishing is occurring for this species.

Copies of the SCS stock assessment and the peer review of the LCS stock assessment are available for review (see ADDRESSES).

Management Options

NMFS requests comments on management options for this action.

Specifically, NMFS requests comments on commercial management options including quota levels, regional and seasonal quotas, trip limits, minimum sizes, the application of dead discards and state landings after a Federal closure to the quota, the counting quota of over- and underages, and fishery closure and opening notices. Additionally, NMFS request comments on recreational management options including retention limits, minimum sizes, authorized gear, and landing requirements. NMFS also seeks comment regarding deep water and prohibited shark species, display quotas, time/area closures and the organization of species groupings. Comments received on this action will assist NMFS in determining the options for rulemaking to conserve and manage shark resources and shark fisheries.

Within the comment period established in this action, NMFS will hold seven public scoping meetings to gather public comment on the implementation of new management measures for Atlantic sharks.

Schedule of Public Scoping Meetings

The dates, times, and locations of the meetings are scheduled as follows:

1. Monday, February 10, 2003 - Silver Spring, MD, 1-6 p.m.

Holiday Inn

8777 Georgia Avenue

Silver Spring, MD 20910

Contact: Karyl Brewster-Geisz @ (301) 713-2347

2. Wednesday, February 19, 2003 - Montauk, NY,7-9 p.m.

Montauk Fire House

12 Flamingo Avenue

Montauk, NY 11954

Contact: Heather Stirratt @ (301) 713-2347

3. Tuesday, February 25, 2003 - Coco Beach, FL, 7-9 p.m.

Cocoa Beach Public Library

550 North Brevard Avenue

Cocoa Beach, FL 32931

Contact: Greg Fairclough @ (727) 570-5447

4. Thursday, February 27, 2003 - Madeira Beach, FL,7-9 p.m.

City of Madeira Beach, City of Madeira Beach Auditorium

300 Municipal Drive

Madeira Beach, FL 33708

Contact: Greg Fairclough @ (727) 570-5447

5. Wednesday, March 5, 2003 - Ocean City, MD, 7-9 p.m.

Ocean City Council Chambers

301 Baltimore Avenue

Ocean City, MD 21842

Contact: Karyl Brewster-Geisz @ (301) 713-2347

6. Thursday, March 6, 2003 - Manteo, NC, 7-9 p.m.

North Carolina Aquarium

Roanoke Island

Airport Road

Manteo, NC 27954

Contact: Heather Stirratt @ (301) 713-2347

7. Tuesday, March 11, 2003 - Port Aransas, TX,7-9 p.m.

University of Texas

Marine Science Institute

Visitor's Center (located on Cotter St. near beach)

750 Channel View Drive

Port Aransas, TX 78373

Contact: Heather Stirratt @ (301) 713-2347

Special Accommodations

These meetings are physically accessible to people with disabilities. Requests for sign language interpretation or other auxiliary aids should be directed to Heather Stirratt, (301) 713-2347.

Authority: 16 U.S.C. 1801 et seq.

Dated: January 22, 2003.
Richard W. Surdi,
Acting Director, Office of Sustainable Fisheries, National Marine Fisheries Service.

[FR Doc. 03-1786 Filed 1-24-03; 8:45 am]

BILLING CODE 3510-22-S